DEPARTMENT OF TRANSPORTATION

Research and Special Programs Administration (RSPA)

[Docket No. RSPA-03-15852, Notice 1]

Pipeline Safety: Pipeline Industry Implementation of Effective Public Awareness Programs

AGENCY: Office of Pipeline Safety, Research and Special Programs Administration (RSPA), DOT.

ACTION: Notice of workshops on industry consensus standard American Petroleum Institute (API) Recommended Practice (RP) 1162, “Public Awareness Programs for Pipeline Operators.”

SUMMARY: The Research and Special Programs Administration's (RSPA) Office of Pipeline Safety (OPS) and the National Association of Pipeline Safety Representatives (NAPSR) will co-sponsor two workshops with the pipeline industry trade associations (API, Interstate Natural Gas Association of America, Association of Oil Pipelines, American Gas Association, and American Public Gas Association) to introduce and discuss industry consensus standard API Recommended Practice (RP) 1162, “Public Awareness Programs for Pipeline Operators.” These workshops will also serve to introduce and discuss the statutory requirement that pipeline operators complete self-assessments of their public education programs no later than December 17, 2003.

DATES: The first workshop will be held on September 4-5, 2003. The second workshop will be held on September 16-17, 2003.

ADDRESSES: The first workshop will be held at the Westin Galleria, 5060 West Alabama, Houston, TX 77056, (713) 960-8100. The second workshop will be held at the Hyatt Regency Baltimore, 300 Light Street, Baltimore, MD 21202, (410) 528-1234. Operators of hazardous liquid and natural gas transmission pipelines, natural gas local distribution systems and oil and gas gathering systems are urged to attend. To facilitate meeting planning, advance registration for these meetings is strongly encouraged and can be accomplished online at the following Web site: http://primis.rspa.dot.gov/meetings. The deadline for registration at both meetings is August 22, 2003.

Members of the public are welcome to attend these workshops. Members of the public who are unable to attend in person can view the meeting over the Internet through the RSPA/OPS Web site: http://ops.dot.gov.

Persons wishing to submit comments relating to these workshops may do so by mail or delivery to the Dockets Facility, U.S. Department of Transportation, Room PL-401, 400 Seventh Street, SW., Washington, DC 20590-0001. The Dockets facility is open from 10 a.m. to 5 p.m., Monday through Friday, except on Federal holidays. You should submit the original and one copy. Anyone who wants confirmation of receipt of their comments must include a stamped, self-addressed postcard. You may also submit comments to the docket electronically. To do so, log on to the Internet Web address http://dms.dot.gov and click on “Help” for instructions on electronic filing of comments. All written comments should identify the docket and notice numbers which appear in the heading of this notice.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Information on Services for Individuals With Disabilities: For information on facilities or services for individuals with disabilities or to request special assistance contact Juan Carlos Martinez (tel: 202-366-1933; e-mail: juan.martinez@rspa.dot.gov).

FOR FURTHER INFORMATION CONTACT: Jeff Wiese (tel: 202-366-4595; e-mail: jeff.wiese@rspa.dot.gov). You can read comments and other material in the docket on the Internet at: http://dms.dot.gov.

SUPPLEMENTARY INFORMATION:

Background

The existing pipeline safety regulations at 49 CFR parts 192 and 195 require operators of natural gas and hazardous liquid pipelines to establish continuing education programs to enable customers, the public, appropriate government organizations, and persons engaged in excavation related activities to recognize a pipeline emergency for the purpose of reporting it to the operator or the appropriate public officials. The regulations also require that operators carry out written programs to prevent pipeline damage from excavation activities. Accordingly, pipeline operators have previously conducted public awareness programs with the affected public, emergency responders, and excavators along their routes.

The Pipeline Safety Improvement Act of 2002 (PSIA) requires that each owner or operator of a natural gas or hazardous liquid pipeline facility must carry out a continuing program to educate the public on the use of a one-call notification system prior to excavation and other damage prevention activities, the possible hazards associated with unintended releases from the pipeline facility, the physical indications that such a release may have occurred, what steps should be taken for public safety in the event of a pipeline release, and how to report such an event.

The PSIA requires that by December 17, 2003, each owner or operator of a gas or hazardous liquid pipeline facility must review its existing public education program for effectiveness and modify the program as necessary. The completed program must include activities to advise affected municipalities, school districts, businesses, and residents of pipeline facility locations. The completed program must be submitted to the Secretary of Transportation or, in the case of an intrastate pipeline facility operator, the appropriate State agency, and shall be periodically reviewed by the Secretary or, in the case of an intrastate pipeline facility operator, the appropriate State agency.

The PSIA also provides that the Secretary of Transportation may issue standards prescribing the elements of an effective public education program. The Secretary may also develop material for use in the program.

In anticipation of this requirement and in response to recommendations from the National Transportation Safety Board (NTSB), RSPA/OPS has encouraged the pipeline industry to work on improving public education programs. The pipeline industry formed a Task Force with representatives from natural gas and liquid petroleum transmission companies, local distribution companies, gathering systems, and industry trade associations. The Task Force has developed a consensus standard establishing guidelines for pipeline operators on development, implementation, and evaluation of public education programs for operating pipeline systems, American Petroleum Institute (API) Recommended Practice (RP) 1162, “Public Awareness Programs for Pipeline Operators.” The Task Force sought feedback from local public officials, the public and interested parties. Representatives from RSPA/OPS and NAPSR observed and provided input into the development of the standard. On January 29, 2003, RSPA/OPS hosted a public meeting on this standard in Bellevue, Washington, to encourage additional public participation.

RP 1162 was developed under the guidelines of both API and the American National Standards Institute (ANSI). Following formal adoption, RP 1162 is expected to be published as a national consensus standard in September 2003.

The level of public education and awareness regarding operating pipelines and pipeline safety can only be increased through demonstrably effective education and communication programs. Therefore, RSPA/OPS is considering incorporating RP 1162 into the pipeline safety regulations.

RSPA/OPS has evaluated the PSIA requirements that operators review and modify their public education programs and submit their completed programs to RSPA/OPS. RP 1162 contains guidance on program effectiveness that amply satisfies the statutory requirement. RSPA/OPS and pipeline industry trade associations encourage pipeline operators to complete a formal self-assessment of their public education programs against the guidelines provided in RP 1162. To assist them in this, RSPA/OPS is developing an Internet-based self-assessment that operators can complete electronically. These self-assessments will help operators identify gaps in their public education programs and the improvements needed to align it with the guidance of RP 1162. This will assist operators in meeting the statutory requirement by December 17, 2003.

RSPA/OPS will co-sponsor two workshops with the pipeline industry trade associations (API, Interstate Natural Gas Association of America, Association of Oil Pipelines, American Gas Association, and American Public Gas Association,) to facilitate these operator self-assessments. Each workshop will provide an industry-facilitated review of RP 1162 and a panel discussion of successful public education practices. RSPA/OPS will describe the self-assessment process and will facilitate sessions on effective program evaluation techniques. RSPA/OPS will conduct breakout sessions during these workshops for the hazardous liquid and natural gas transmission pipeline operators. The breakout sessions will provide a more in-depth overview of the self-assessment process and attempt to gauge the current status of public education programs for the transmission pipeline operators by completion of informal self-assessments in advance of the formal self-assessment required by December 17, 2003. All hazardous liquid and natural gas transmission pipeline operators are urged to attend the breakout sessions. It is important that the attending representative be familiar with the operating systems that are covered under the operator's public education program.

Issued in Washington, DC, on August 8, 2003.
Stacey L. Gerard,
Associate Administrator for Pipeline Safety.

[FR Doc. 03-20775 Filed 8-13-03; 8:45 am]

BILLING CODE 4910-60-P